FEDERAL COMMUNICATIONS COMMISSION

Public Safety and Homeland Security Bureau; Federal Advisory Committee Act; Communications Security, Reliability, and Interoperability Council

AGENCY: Federal Communications Commission.

ACTION: Notice of public meeting.

SUMMARY: In accordance with the Federal Advisory Committee Act, this notice advises interested persons that the Federal Communications Commission's (FCC) third Communications Security, Reliability, and Interoperability Council (CSRIC III) will hold its first meeting on September 23, 2011, from 9 a.m. to 1 p.m. in the Commission Meeting Room of the Federal Communications Commission, Room TW-C305, 445 12th Street, SW., Washington, DC 20554.

DATES: September 23, 2011.

ADDRESSES: Federal Communications Commission, Room TW-C305 (Commission Meeting Room), 445 12th Street, SW., Washington, DC 20554.

FOR FURTHER INFORMATION CONTACT: Jeffery Goldthorp, Designated Federal Officer of the FCC's CSRIC, (202) 418-1096 (voice) or jeffery.goldthorp@fcc.gov (e-mail); or Lauren Kravetz, Deputy Designated Federal Officer of the FCC's CSRIC, (202) 418-7944 (voice) or lauren.kravetz@fcc.gov (e-mail).

SUPPLEMENTARY INFORMATION: The CSRIC is a Federal Advisory Committee that will provide recommendations to the FCC regarding best practices and actions the FCC can take to ensure the security, reliability, and interoperability of communications systems. On March 19, 2011, the FCC, pursuant to the Federal Advisory Committee Act, renewed the charter for the CSRIC for a period of two years through March 18, 2013.

At this first meeting, the chairs of each CSRIC working group will present a plan for completion of each working group's tasks. A presentation will also be made by the Alliance for Telecommunications Industry Solutions on recent work to improve 9-1-1 reliability. The FCC will attempt to accommodate as many people as possible; however, admittance will be limited to seating availability. The Commission will provide audio and/or video coverage of the meeting over the Internet from the FCC's Web page at http://www.fcc.gov/live. The public may submit written comments before the meeting to Jeffery Goldthorp, the FCC's Designated Federal Officer for the CSRIC by e-mail to jeffery.goldthorp@fcc.gov or U.S. Postal Service Mail to Jeffery Goldthorp, Associate Bureau Chief, Public Safety and Homeland Security Bureau, Federal Communications Commission, 445 12th Street, SW., Room 7-A325, Washington, DC 20554.

Open captioning will be provided for this event. Other reasonable accommodations for people with disabilities are available upon request. Requests for such accommodations should be submitted via e-mail to fcc504@fcc.gov or by calling the Consumer & Governmental Affairs Bureau at (202) 418-0530 (voice), (202) 418-0432 (tty). Such requests should include a detailed description of the accommodation needed. In addition, please include a way the FCC can contact you if it needs more information. Please allow at least five days' advance notice; last minute requests will be accepted, but may be impossible to fill. Additional information regarding the CSRIC can be found at: http://www.fcc.gov/pshs/advisory/csric/.

Federal Communications Commission.
Marlene H. Dortch,
Secretary.

[FR Doc. 2011-22201 Filed 8-30-11; 8:45 am]

BILLING CODE 6712-01-P